DEPARTMENT OF LABOR

Mine Safety and Health Administration

Petitions for Modification of Application of Existing Mandatory Safety Standards

AGENCY: Mine Safety and Health Administration, Labor.

ACTION: Notice.

SUMMARY: This notice is a summary of petitions for modification submitted to the Mine Safety and Health Administration (MSHA) by the parties listed below.

DATES: All comments on the petitions must be received by MSHA's Office of Standards, Regulations, and Variances on or before August 25, 2017.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Sheila McConnell, Director, Office of Standards, Regulations, and Variances. Persons delivering documents are required to check in at the receptionist's desk in Suite 4E401. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at 202-693-9447 (Voice), barron.barbara@dol.gov (Email), or 202-693-9441 (Facsimile). [These are not toll-free numbers.]

SUPPLEMENTARY INFORMATION: Section 101(c) of the Federal Mine Safety and Health Act of 1977 and Title 30 of the Code of Federal Regulations part 44 govern the application, processing, and disposition of petitions for modification.

I. Background

Section 101(c) of the Federal Mine Safety and Health Act of 1977 (Mine Act) allows the mine operator or representative of miners to file a petition to modify the application of any mandatory safety standard to a coal or other mine if the Secretary of Labor (Secretary) determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2017-010-C.

Petitioner: Peabody Gateway North Mining, LLC, 12968 Illinois State Route 13, Coulterville, IL 62237.

Mine: Gateway North Mine, MSHA I.D. No. 11-03235, located in Randolph County, Illinois.

Regulation Affected: 30 CFR 75.500(d) (Permissible electric equipment).

Modification Request: The petitioner requests a modification of the existing standard to permit the use of nonpermissible electronic testing equipment in the last open crosscut. The petitioner states that:

(1) Nonpermissible electronic testing and diagnostic equipment to be used includes: Laptop computers, oscilloscopes, vibration analysis machines, cable fault detectors, point temperature probes, infrared temperature devices, insulation testers (meggers), voltage, current resistance, power testers, and electronic tachometers. Other testing and diagnostic equipment may be used if approved in advance by the MSHA District Manager.

(2) All nonpermissible testing and diagnostic equipment used in or inby the last open crosscut will be examined by a qualified person as defined in 30 CFR 75.153, prior to use to ensure the equipment is being maintained in a safe operating condition. These examination results will be recorded in the weekly examination book and will be made available to MSHA and the miners at the mine.

(3) A qualified person as defined in 30 CFR 75.151 will continuously monitor for methane immediately before and during the use of nonpermissible electronic testing and diagnostic equipment in or inby the last open crosscut.

(4) Nonpermissible electronic testing and diagnostic equipment will not be used if methane is detected in concentrations at or above one percent. When one percent or more methane is detected while the nonpermissible electronic equipment is being used, the equipment will be de-energized immediately and will be withdrawn outby the last open crosscut.

(5) All hand-held methane detectors will be MSHA-approved and maintained in permissible and proper operating condition as defined in 30 CFR 75.320.

(6) Except for time necessary to troubleshoot under actual mining conditions coal production in the section will cease. However, coal may remain in or on the equipment to test and diagnose the equipment under “load”.

(7) All electronic testing and diagnostic equipment will be used in accordance with the safe use procedures recommended by the manufacturer.

(8) Qualified personnel who use electronic testing and diagnostic equipment will be properly trained to recognize the hazards and limitations associated with use of the equipment.

The petitioner asserts that the proposed alternative method will at all times guarantee no less than the same measure of protection afforded by the standard.

Docket Number: M-2017-011-C.

Petitioner: Peabody Gateway North Mining, LLC, 12968 Illinois State Route 13, Coulterville, IL 62237.

Mine: Gateway North Mine, MSHA I.D. No. 11-03235, located in Randolph County, Illinois.

Regulation Affected: 30 CFR 75.507-1(a) (Electric equipment other than power-connection points; outby the last open crosscut; return air; permissibility requirements).

Modification Request: The petitioner requests a modification of the existing standard to permit the use of nonpermissible electronic testing equipment in return air outby the last open crosscut. The petitioner states that:

(1) Nonpermissible electronic testing and diagnostic equipment to be used includes: Laptop computers, oscilloscopes, vibration analysis machines, cable fault detectors, point temperature probes, infrared temperature devices, insulation testers (meggers), voltage, current resistance, power testers, and electronic tachometers. Other testing and diagnostic equipment may be used if approved in advance by the MSHA District Manager.

(2) All nonpermissible testing and diagnostic equipment used in return air outby the last open crosscut will be examined by a qualified person as defined in 30 CFR 75.153, prior to use to ensure the equipment is being maintained in a safe operating condition. These examination results will be recorded in the weekly examination book and will be made available to MSHA and the miners at the mine.

(3) A qualified person as defined in 30 CFR 75.151 will continuously monitor for methane immediately before and during the use of nonpermissible electronic testing and diagnostic equipment in return air outby the last open crosscut.

(4) Nonpermissible electronic testing and diagnostic equipment will not be used if methane is detected in concentrations at or above one percent. When one percent or more methane is detected while the nonpermissible electronic equipment is being used, the equipment will be de-energized immediately and will be withdrawn from the return air outby the last open crosscut.

(5) All hand-held methane detectors will be MSHA approved and maintained in permissible and proper operating condition as defined in 30 CFR 75.320.

(7) All electronic testing and diagnostic equipment will be used in accordance with the safe use procedures recommended by the manufacturer.

(8) Qualified personnel who use electronic testing and diagnostic equipment will be properly trained to recognize the hazards and limitations associated with use of the equipment.

The petitioner asserts that the proposed alternative method will at all times guarantee no less than the same measure of protection afforded by the standard.

Docket Number: M-2017-012-C.

Petitioner: The Marion County Coal Company, 151 Johnny Cake Road, Metz, West Virginia 26585.

Mine: Marion County Mine, MSHA I.D. No. 46-01433, located in Marion County, West Virginia.

Regulation Affected: 30 CFR 75.1700 (Oil and gas wells).

Modification Request: The petitioner requests a modification of that part of the existing standard that requires the operator to establish and maintain barriers around its surface directional drilled (SDD) wells. The petitioner asserts that the proposed alternative method has been successfully used to prepare coal bed methane (CBM) wells for safe intersection by using one or more of the following methods: (1) Cement Plug, (2) Polymer Gel, (3) Bentonite Gel, (4) Active Pressure Management and Water Infusion, and (5) Remedial Work. The proposed alternative method will prevent the CBM well methane from entering the underground mine. The alternative method includes well plugging procedures, water infusion and ventilation method, and procedures for mining through a CBM well with horizontal laterals. The petitioner states that:

(1) A minimum working barrier of 300 feet in diameter will be maintained around all SDD wells until approval to proceed with mining has been obtained from the District Manager (DM). The barrier would extend around all vertical and horizontal branches drilled in the coal seam. The barrier would also extend around all vertical and horizontal branches within overlying coal seams subject to caving or subsidence from the coal seam being mined when methane leakage through the subsidence zone is possible.

(2) The DM may choose to approve each branch intersection, each well, or a group of wells as applicable to the conditions. The DM may require a certified review of the proposed methods to prepare the SDD wells for intersection by a professional engineer in order to assess the applicability of the proposed system(s) to the mine-specific conditions.

a. The petitioner proposes to use the following procedures for preparing, plugging, and replugging SDD wells using mandatory computations and administrative procedures prior to plugging or replugging:

(1) Probable Error of Location—Directional drilling systems rely on sophisticated angular measurement systems and computer models to calculate the estimated location of the well bore. This estimated hole location is subject to cumulative measurement errors so that the distance between actual and estimated location of the well bore increases with the depth of the hole. Modern directional drilling systems are typically accurate within one or two degrees depending on the specific equipment and techniques. The probable error of location is defined by a cone described by the average accuracy of angular measurement around the length of the hole. For example, a hole that is drilled 500 vertical feet and deviated into a coal seam at a depth of 700 feet would have a probable error of location at a point that is 4,000 feet from the hole collar (about 2,986 feet horizontally from the well collar) of 69.8 feet (4,000 feet × sine (1.0 degree)) if the average accuracy of angular measurement was on degree and 139.6 feet if the average accuracy of angular measurement was two degrees. In addition to the probable error of location, the true hole location is also affected by underground survey errors, surface survey errors, and random survey errors.

(2) Minimum Working Barrier Around Well—For purposes of this petition, the minimum working barrier around any CBM well or branches of a CBM well in the coal seam is 50 feet plus the probable error of location. For example, a hole that is drilled 500 vertical feet and deviated into a coal seam at a depth of 700 feet using drilling equipment that has an average accuracy of angular measurement of one degree, the probable error of location at a point that is 4,000 feet from the hole collar is 69.8 feet. Therefore, the minimum working barrier around this point of the well bore is 120 feet (69.8 feet plus 50 feet rounded up to the nearest foot). The 50 additional feet is a reasonable separation between the probable location of the well and mining operations. When mining is within the minimum working barrier distance from a CBM well or branch, the mine operator must comply with the provisions of this petition. CBM wells must be prepared in advance for safe intersection and specific procedures must be followed on the mining section in order to protect the miners when mining within this minimum working barrier around the well. The DM may require a greater minimum working barrier around CBM wells where geologic conditions, historical location errors, or other factors warrant a greater barrier.

(3) Ventilation Plan Requirements—The ventilation plans will contain a description of all SDD CBM wells drilled in the area to be mined. This description would include the well numbers, the date drilled, the diameter, the casing information, the coal seams developed, maximum depth of the wells, abandonment pressures, and any other information required by the DM. All or part of this information may be listed on the mine ventilation map as required in 30 CFR 75.372. As required in 30 CFR 75.371, the ventilation plan will include the techniques that the mine operator plans to use to prepare the SDD wells for safe intersection, the specifications and stops necessary to implement these techniques, and the operational precautions that are required when mining within the minimum working barrier. The ventilation plan will also contain any additional information or provisions related to the SDD wells required by the DM.

(4) Ventilation Map—The mine ventilation map specified in 30 CFR 75.372 will contain the following information:

(i) The surface location of all CBM wells in the active mining area and any projected mining area as specified in 30 CFR 75.372(b)(14);

(ii) Identifying information of CBM wells (i.e. API) hole number or equivalent;

(iii) The date that gas production began from the well;

(iv) The coal seam intersection of all CBM wells;

(v) The horizontal extents in the coal seam of all CBM wells and branches;

(vi) The outline of the probable error of location of all CBM wells; and

(vii) The date of mine intersection and the distance between estimated and actual locations for all intersections of the CBM well and branches.

b. The petitioner proposes the following mandatory procedures for plugging or replugging SDD Wells:

—The mine operator will include in the mine ventilation plan one or more of the methods listed below to prepare SDD wells for safe intersection. The methods approved in the mine ventilation plan must be completed on each SDD well before mining encroaches on the minimum working barrier around the well or branch of the well in the coal seam being mined. If methane leakage through subsidence cracks is a problem when retreat mining, the minimum working barrier must be maintained around wells and branches in overlying coal seams or the wells and branches must be prepared for safe intersection as specified in the mine ventilation plan.

(1) Cement Plug—Cement will be used to fill the entire SDD hole system. Squeeze cementing techniques are necessary for SDD plugging due to the lack of tubing in the hole. Cement would fill void spaces and eliminate methane leakage along the hole. Once the cement has cured, the SDD system may be intersected multiple times without further hole preparation. Gas cutting occurs if the placement pressure of the cement is less than the methane pressure in the coal seam. Under these conditions, gas will bubble out of the coal seam and into the unset cement creating a pressurized void or series of interconnected pressurized voids. Water cutting occurs when formation water and standing water in the hole invades or displaces the unset cement. Standing water has to be bailed out of the hole or driven into the formation with compressed gas to minimize water cutting. The cement pressure must be maintained higher than the formation pressure until the cement sets to minimize both gas and water cutting. The cementing program in the ventilation plan must address both gas and water cutting.

Due to the large volume to be cemented and potential problems with cement setting prior to filling the entire SDD system, adequate sized pumping units with backup capacity must be used. Various additives such as retarders, lightweight extenders, viscosity modifiers, thixotropic modifiers, and fly ash may be used in the cement mix. The volume of cement pumped would exceed the estimated hole volume to ensure the complete filling of all voids.

The complete cementing program, including hold dewatering, cement, additives, pressures, pumping times and equipment must be specified in the mine ventilation plan. The material safety data sheets (MSDS) for all cements, additives and components and any personal protective equipment and techniques to protect workers from the potentially harmful effects of the cement and cement components would be included in the ventilation plan. Records of cement mixes, cement quantities, pump pressures, and flow rates and times would be retained for each hole plugged. SDD holes may be plugged with cement years in advance of mining. However, the DM will require suitable documentation of the cement plugging in order to approve mining within the minimum working barrier around CBM wells.

(2) Polymer Gel—Polymer gels start out as low viscosity, water-based mixtures of organic polymer that are crosslinked using time-delayed activators to form a water-insoluble, high-viscosity gel after being pumped into the SDD system. Although polymer gel systems never solidify, the activated gel should develop sufficient strength to resist gas flow. A gel that is suitable for treating SDD wells for mine intersection will reliably fill the SDD system and prevent gas-filled voids. Any gel chemistry used for plugging SDD wells should be resistant to bacterial and chemical degradation and remain stable for the duration of mining through a SDD system.

Water may dilute the gel mixture to the point where it will not set to the required strength. Water in the holes would be removed before injecting the gel mixture. Water removal can be accomplished by conventional bailing and then injecting compressed gas to squeeze the water that accumulated in low spots back into the formation. Gas pressurization would be continued until the hole is dry. Another potential problem with gels is that dissolved salts in the formation waters may interfere with the cross-linking reactions. Any proposed gel mixtures must be tested with actual formation waters.

Equipment to mix and pump gels would have adequate capacity to fill the hole before the gel sets. Backup units would be available in case something breaks while pumping. The volume of gel pumped would exceed the estimated hole volume to ensure the complete filling of all voids and allow for gel to infiltrate the joints in the coal seam surrounding the hole. Gel injection and setting pressures would be specified in the mine ventilation plan. To reduce the potential for an inundation of gel, the final level of gel would be close to the level of the coal seam and the remainder of the hole would remain open to the atmosphere until mining in the vicinity of the SDD system is completed. Packers may be used for isolate portions of the SDD system.

The complete polymer gel program, including advance testing of the gel with formation water, dewatering systems, gel specifications, gel quantities, gel placement, pressures, and pumping equipment must be specified in the mine ventilation plan. The MSDS for all gel components and any personal protective equipment and techniques to protect workers from potentially harmful effects of the gel and gel components would be included in the mine ventilation plan. A record of the calculated hold volume, gel quantities, gel formulation, pump pressures and flow rates and times would be retained for each hole that is treated with gel. Other gel chemistries other than organic polymers may be included in the mine ventilation plan with appropriate methods, parameters, and safety precautions.

(3) Bentonite Gel—High pressure injection of bentonite gel into the SDD system will infiltrate the cleat and butt joints of the coal seam near the well bore and effectively seal these conduits against the follow of methane. Bentonite gel is a thixotropic fluid that sets when it stops moving, and has a significantly lower setting viscosity than polymer gel. The polymer gel fills and seals the borehole, the lower strength bentonite gel must penetrate the fractures and jointing in the coal seam to be effective in reducing formation permeability around the hole. The use of bentonite gel is restricted to deleted CBM applications that have low abandonment pressures and limited recharge potential. In general, these applications will be mature CBM fields with long production histories.

A slug of water would be injected prior the bentonite gel in order to minimize moisture loss bridging near the well bore. The volume of gel pumped would exceed the estimated hole volume to ensure that the gel infiltrates the joints in the coal seam for several feet surrounding the hole. Due to the large gel volume and potential problems with premature thixotropic setting, adequately sized pumping units with back-up capacity are required. Additives to the gel may be required to modify viscosity, reduce filtrates, reduce surface tension, and promote sealing of the cracks and joints around the hole. To reduce the potential for an inundation of bentonite gel, the final level of gel would be approximately the elevation of the coal seam and the remainder of the hole would remain open to the atmosphere until mining in the vicinity of the SDD system is complete. If a water column is used to pressurize the gel, it must be bailed down to the coal seam elevation prior to intersection.

The complete bentonite gel program, including formation infiltration and permeability reduction data, hole pretreatment, gel specifications, and additives, gel quantities flow rates, injection pressures and infiltration times, must be specified in the ventilation plan. The ventilation plan should list the equipment used to prepare and pump the gel. The MSDS for all gel components and any personal protective equipment and techniques to protect workers from the potentially harmful effects of the gel and additives would be included in the ventilation plan. A record of the hole preparation, gel quantities, gel formulation, pump pressures, and flow rates and times would be retained for each hole that is treated with bentonite gel.

(4) Active Pressure Management and Water Infusion—Reducing the pressure in the hole to less than atmospheric pressure by operating a vacuum blower connected to the wellhead may facilitate safe intersection of the hole by a coal mine. The negative pressure in the hole will limit the quantity of methane released into the higher pressure mine atmosphere. If the mine intersection is near the end of a horizontal branch of the SDD system, air will flow from the mine into the upstream side of the hold and be exhausted through the blower on the surface. On the downstream side of the intersection, if the open hole length is short, the methane emitted from this side of the hole may be diluted to safe levels with ventilation air. Conversely, safely intersecting this system near the bottom of the vertical hole may not be possible because the methane emissions from the multiple downstream branches may be too great to dilute with ventilation air. The methane emission rate is directly proportional to the length of the open hole. Successful application of vacuum systems may be limited by caving of the hole or water collected in dips in the SDD system. Another important factor in the success of vacuum systems is the methane liberation rate of the coal formation around the well. Older, more depleted wells that have lower methane emission rates are more amenable to this technique. The remaining methane content and the formation permeability should be addressed in the mine ventilation plan.

Packer may be used to reduce methane inflow into the coal mine after intersection. All packers on the downstream side of the hole must be equipped with a center pipe so that the inby methane pressure may be measured or so that water may be injected. Subsequent intersections would not take place if pressure in a packer-sealed hole is excessive. Alternatively, methane produced by the downstream hole may be piped to an in-mine degas system to safely transport the methane out of the mine or may be piped to the return air course for dilution. In-mine methane piping would be protected as stipulated in “Piping Methane in Underground Coal Mines, MSHA IR 1094, (1978). Protected methane diffusion zones may be established in return air courses if needed.

Detailed sketches and safety precautions for methane collection, piping and diffusion systems must be included in the mine ventilation plan (30 CFR 75.371(ee)).

Water infusion prior to intersecting the well will temporarily limit methane flow. Water infusion may also help control coal dust levels during mining. High water infusion pressures may be obtained prior to the initial intersection by the hydraulic head resulting from the hole depth or by pumping. Water infusion pressures for subsequent intersections are limited by leakage around in-mine packers and limitations of the mine water distribution system. If water is infused prior to the initial intersection, the water level in the hole must be lowered to the coal seam elevation before the intersection.

The complete pressure management strategy including negative pressure application, wellhead equipment, and use of packers, in-mine piping, methane dilution, and water infusion must be specified in the mine ventilation plan. Procedures for controlling methane in the downstream hole must be specified in the mine ventilation plan. The remaining methane content and formation permeability would be addressed in the mine ventilation plan. The potential for the coal seam to cave into the well would be addressed in the mine ventilation plan. Dewatering methods would be included in the mine ventilation plan. A record of the negative pressures applied to the system, methane liberation, use of packers and any water infusion pressures and application time would be retained for each intersection.

(5) Remedial Work—If problems are encountered in preparing the holes for safe intersection, remedial measures must be taken to protect the miners. For example, if only one-half of the calculated hold volume of cement could be placed into a SDD well due to hole blockage, holes would be drilled near each branch that will be intersected and squeeze cemented using pressures sufficient to fracture into the potentially empty SDD holes. The DM will approve remedial work in the mine ventilation plan on a case-by-case basis.

c. The petitioner proposes to use the following mandatory procedures after approval has been granted by the DM to mine within the minimum working barrier around the well or branch of the well:

(1) The mine operator, the DM, a representative of the miners, or the appropriate State agency may request a conference prior to any intersection or after any intersection to discuss issues or concerns. Upon receipt of any request, the DM will schedule a conference. The party requesting the conference will notify all other parties listed above within a reasonable time prior to the conference to provide opportunity for participation.

(2) The mine operator must notify the DM, the State agency, and the representative of the miners at least 48 hours prior the intended intersection of any CBM well.

(3) The initial intersection of a well or branch of a well typically has higher risk than subsequent intersections. The initial intersection typically indicates if the well preparation is sufficient to prevent the inundation of methane. For the initial intersection of a well or branch the following procedures are mandatory:

(a) When mining advances within the minimum barrier distance of the well or branches of the well, the entries that will intersect the well or branches must be posted with a readily visible marking. For longwalls, both the head and tailgate entries must be so marked. Marks must be advanced to within 100 feet of the working face as mining progresses. Marks will be removed after well or branches are intersected in each entry or after mining has exited the minimum barrier distance of the well.

(b) Entries that will intersect vertical segments of a well will be marked with drivage sights in the last open crosscut when mining is within 100 feet of the well. When a vertical segment of a well will be intersected by a longwall, drivage sights will be installed on 10-foot centers starting 50 feet in advance of the anticipated intersection. Drivage sights will be installed in both the headgate and tailgate entries of the longwall.

(c) Firefighting equipment, including fire extinguishers, rock dust, and sufficient fire hose to reach the working face area of the mine-through (when either the conventional or continuous mining method is used), will be available and operable during each well mine-through. A fire hose will be located in the last open crosscut of the entry or room. A water line to the belt conveyor tailpiece will be maintained along with a sufficient amount of fire hose to reach the farthest point of penetration on the section. When the longwall mining method is used, a hose to the longwall water supply is sufficient. All fire hoses will be connected and ready for use, but do not have to be charged with water during the cut-through.

(d) The operator will keep available at the working section a sufficient supply of roof support and ventilation materials. In addition, emergency plugs, packers, and setting tools to seal both sides of the well or branch will be available in the immediate area of the cut-through.

(e) When mining advances within the minimum working barrier distance from the well or branch of the well, the operator will service all equipment and check for permissibility at least once daily. Daily permissibility examinations must continue until the well or branch is intersected or until mining exits the minimum working barrier around the well or branch.

(f) When mining advances within the minimum working barrier distance from the well or branch of the well, the operator will calibrate the methane monitor(s) on the longwall, continuous mining machine and loading machine at least once daily. Daily methane monitor calibration must continue until the well or branch is intersected or until mining exits the minimum working barrier around the well or branch.

(g) When mining is in progress, the operator will perform tests for methane with a handheld methane detector at least every 10 minutes from the time mining with the continuous mining machine or longwall face is within the minimum working barrier around the well or branch. During the cutting process, no individual will be allowed on the return side until the mine-through has been completed and the area has been examined and declared safe. The shearer must be idle when any miners are inby the tail drum.

(h) When using continuous or conventional mining methods, the working place will be free from accumulations of coal dust and coal spillages, and rock dust will be placed on the roof, rib, and floor to within 20 feet of the face when mining through the well or branch. On longwall sections, rock dust will be applied on the roof, rib, and floor up to both the headgate and tailgate pillared area.

(i) Immediately after the well or branch is intersected, the operator will de-energize all equipment, and the certified person will thoroughly examine and determine the working place safe before mining is resumed.

(j) After a well or well branch has been intersected and the working place determined safe, mining will continue inby the well a sufficient distance to permit adequate ventilation around the area of the well or branch.

(k) No open flame will be permitted in the area until adequate ventilation has been established around the wellbore or branch. Any casing, tubing or stuck tools will be removed using the methods approved in the mine ventilation plan.

(l) No person will be permitted in the working place of the mine-through operation during active mining except those persons actually engaged in the mining operation, including mine management, representatives of miners, personnel from MSHA, and personnel from the appropriate State agency.

(m) The mine operator will warn all personnel in the mine of the planned intersection of the well or branch prior to their going underground if the planned intersection is to occur during their shift. This warning will be repeated for all shifts until the well or branch has been intersected.

(n) A certified official will directly supervise the mine-through operation and only the certified official in charge will issue instructions concerning the mine-through operation.

(o) All miners will be in known locations and will stay in communication with the responsible person, in accordance with the site specific approved emergency response plan when active mining occurs within the minimum working barrier of the well or branch.

(p) The responsible person required in 30 CFR 75.1501 is responsible for well intersection emergencies. The well intersection procedures must be reviewed by the responsible person prior to any planned intersection.

(q) A copy of the approved petition will be maintained at the mine and be available to the miners.

(r) The provisions of the approved petition do not impair the authority of representative of MSHA to interrupt or halt the mine-through operation and to issue a withdrawal order when its deemed necessary for the safety of the miners. MSHA may order an interruption or cessation of the mine-through operation and/or withdrawal of personnel by issuing either a verbal or a written order to that effect to a representative of the operator, and will include the basis for the order. Operations in the affected area of the mine may not resume until a representative of MSHA permits resumption of mine-through operations. The miner operator and miners will comply with verbal or written MSHA orders immediately. All verbal orders will be committed to in writing within a reasonable time as conditions permit.

(s) For subsequent intersections of branches of a well, appropriate procedures to protect the miners will be specified in the mine ventilation plan.

d. The petitioner proposes to use the following mandatory procedures after SDD intersections:

(1) All intersections with SDD wells and branches that are in intake air courses will be examined as part of the pre-shift examinations required in 30 CFR 75.360.

(2) All other intersections with SDD wells and branches will be examined as part of the weekly examinations required in 30 CFR 75.364.

Within 30 days after this petition becomes final, the petitioner will submit proposed revisions for its approved Part 48 training plan to the DM. These proposed revisions will include initial and refresher training regarding compliance with the terms and conditions stated in the petition. The mine operator will provide all miners involved in the mine-through of a well or branch with training regarding the requirements of this petition prior to mining within the minimum working barrier of the next well or branch intended to be mined through.

Within 30 days after this petition becomes final, the petitioner will submit proposed revisions for its approved mine emergency evacuation and firefighting program of instruction required in 30 CFR 75.1502. The mine operator will revise the program to include the hazards and evacuation procedures to be used for well intersections. All underground miners will be trained in the revised program within 30 days of the approval of the revised mine emergency evacuation and firefighting program of instruction.

The petitioner asserts that the proposed alternative method will always guarantee the miners no less than the same measure of protection afforded by the standard.

Sheila McConnell,
Director, Office of Standards, Regulations, and Variances.

[FR Doc. 2017-15674 Filed 7-25-17; 8:45 am]

BILLING CODE 4520-43-P